DEPARTMENT OF TRANSPORTATION

Coast Guard

33 CFR Part 117

[CGD08-02-038]

Drawbridge Operation Regulations; Calcasieu River, Lake Charles, Calcasieu Parish, LA

AGENCY: Coast Guard, DOT.

ACTION: Notice of temporary deviation from regulations.

SUMMARY: The Commander, Eighth Coast Guard District, has issued a temporary deviation from the regulation governing the operation of the Union Pacific Railroad Swing Span Bridge across the Calcasieu River, mile 36.4, at Lake Charles, Calcasieu Parish, LA. This deviation allows the bridge to remain closed to navigation from December 7, 2002, through December 16, 2002. The deviation is necessary to remove the swing span pivot casting for placement of new lenses, resetting of reconditioned circular tracks and reconditioned balance wheels that affect the operation of the swing span.

DATES: This deviation is effective from 7 a.m. on December 7, 2002, through 6 p.m. on December 16, 2002.

ADDRESSES: Materials referred to in this document are available for inspection or copying at the office of the Eighth Coast Guard District, Bridge Administration Branch, Hale Boggs Federal Building, room 1313, 501 Magazine Street, New Orleans, Louisiana 70130-3396 between 7 a.m. and 3 p.m., Monday through Friday, except Federal holidays. The Bridge Administration Branch of the Eighth Coast Guard District maintains the public docket for this temporary deviation.

FOR FURTHER INFORMATION CONTACT: Kay Wade, Bridge Administration Branch, telephone (504) 589-2965.

SUPPLEMENTARY INFORMATION: The Union Pacific Railroad has requested a temporary deviation in order to remove and replace the pivot casting with reconditioned pivot casting and new lenses that affect the opening and closing of the swing span bridge across the Calcasieu River at mile 36.4 near Lake Charles, Calcasieu Parish, Louisiana. This maintenance is essential for the continued operation of the bridge and is being performed in conjunction with maintenance operations on the Union Pacific Railroad swing span bridge across the Sabine River at mile 19.3 near Echo, Orange County, Texas. Parts from the bridge at Echo will be removed, reconditioned and placed on the bridge at Lake Charles. This temporary deviation will allow the bridge to remain in the closed-to-navigation position from 7 a.m. on Saturday, December 7, 2002, through 6 p.m. on Monday, December 16, 2002.

The swing span bridge has a vertical clearance of 1.07 feet above mean high water, elevation 3.56 feet Mean Gulf Level in the closed-to-navigation position. Navigation on the waterway consists primarily of tugs with tows. There is very little commercial traffic at the bridge site. There are only three companies that transit above the bridge with barges. All three companies were contacted and have no objection to the 10 day closure. Recreational boat traffic is not a concern since recreational boating is minimal during the month of December. The bridge normally opens to pass navigation on an average of five times per day. In accordance with 33 CFR 117.5, the draw of the bridge opens on signal. The bridge will not be able to open for emergencies during the closure period. No alternate routes are available.

In accordance with 33 CFR 117.35(c), this work will be performed with all due speed in order to return the bridge to normal operation as soon as possible. This deviation from the operating regulations is authorized under 33 CFR 117.35.

Dated: November 15, 2002.
Marcus Redford,
Bridge Administrator.

[FR Doc. 02-29907 Filed 11-22-02; 8:45 am]

BILLING CODE 4910-15-P